DEPARTMENT OF ENERGY

Federal Energy Regulatory Commission

Combined Notice of Filings #2

Take notice that the Commission received the following electric rate filings:

Docket Numbers: ER10-1789-004; ER10-1768-003; ER10-1793-003; ER10-1770-003, ER10-1771-003; ER12-1250-003.

Applicants: PSEG Energy Resources & Trade LLC, Public Service Electric and Gas Company, PSEG Power Connecticut LLC, PSEG Fossil LLC, PSEG Nuclear LLC, PSEG New Haven LLC.

Description: Supplement to November 13, 2014 Notice of Non-Material Change in Status of PSEG Energy Resources & Trade LLC, et al.

Filed Date: 11/14/14.

Accession Number: 20141114-5149.

Comments Due: 5 p.m. ET 12/4/14.

Docket Numbers: ER14-2657-000.

Applicants: El Paso Electric Company.

Description: Second Supplement to August 14, 2014 El Paso Electric Company tariff filing.

Filed Date: 11/14/14.

Accession Number: 20141114-5082.

Comments Due: 5 p.m. ET 12/5/14.

Docket Numbers: ER15-45-001.

Applicants: Southwest Power Pool, Inc.

Description: Tariff Amendment per 35.17(b): Att. AE—MWP Start-Up Offer Recovery—No. ER15-45—Motion to Defer Action to be effective 12/31/9998.

Filed Date: 11/14/14.

Accession Number: 20141114-5191.

Comments Due: 5 p.m. ET 12/5/14.

Docket Numbers: ER15-409-000.

Applicants: California Independent System Operator Corporation.

Description: Tariff Withdrawal per 35.15: 2014-11-14_BPA_IntraHourAgreementTermination to be effective 10/21/2014.

Filed Date: 11/14/14.

Accession Number: 20141114-5142.

Comments Due: 5 p.m. ET 12/5/14.

Docket Numbers: ER15-410-000.

Applicants: Arizona Public Service Company.

Description: § 205(d) rate filing per 35.13(a)(2)(iii): Rate Schedule No. 217 Exhibit B.GLA Revision No. 4 to be effective 1/19/2015.

Filed Date: 11/14/14.

Accession Number: 20141114-5210.

Comments Due: 5 p.m. ET 12/5/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2014.
Nathaniel J. Davis, Sr.,
Deputy Secretary.

[FR Doc. 2014-27947 Filed 11-25-14; 8:45 am]

BILLING CODE 6717-01-P